EXPORT-IMPORT BANK OF THE UNITED STATES

Notice of Open Special Meeting of the Sub-Saharan Africa Advisory Committee (SAAC) of the Export-Import Bank of the Untied States (Export-Import Bank)

SUMMARY: The Sub-Saharan Africa Advisory Committee was established by Public Law 105-121, November 26, 1997, to advise the Board of Directors on the development and implementation of policies and programs designed to support the expansion of the Bank's financial commitments in Sub-Saharan Africa under the loan, guarantee and insurance programs of the Bank. Further, the committee shall make recommendations on how the Bank can facilitate greater support by U.S. commercial banks for trade with Sub-Saharan Africa.

Time and Place: June 6, 2007 at 9:30 to 1 p.m. the meeting will be held at the Export-Import Bank in Room 1143, 811 Vermont Avenue, NW., Washington, DC 20571.

Agenda: The meeting will include a general discussion as to encouraging more U.S. companies to market themselves in Africa; review of the 2006 Competitiveness Report; update on the 2006 SAAC recommendations to the Bank and a report on recent Africa focused international business development efforts as well as the Africa IBD plans for the balance of the fiscal year.

Public participation: The meeting will be open to public participation, and the last 10 minutes will be set aside for oral questions or comments. Members of the public may also file written statement(s) before or after the meeting. If any person wishes auxiliary aids (such as a sign language interpreter) or other special accommodations, please contact, prior to June 6, 2007, Barbara Ransom, Room 1241, 811 Vermont Avenue, NW., Washington, DC 20571, Voice: (202) 565-3525 or TDD (202) 565-3377.

FOR FURTHER INFORMATION: For further information, contact Barbara Ransom, Room 707, 811 Vermont Avenue, NW., Washington, DC 20571, (202) 565-3525.

Kamil Cook,
Deputy General Counsel.

[FR Doc. 07-2478 Filed 5-17-07; 8:45am]

BILLING CODE 6690-01-M